NUCLEAR REGULATORY COMMISSION

Regulatory Guide: Issuance, Availability, Workshop

The U.S. Nuclear Regulatory Commission (NRC) has issued a draft new appendix to a guide in its Regulatory Guide series. This series has been developed to describe and make available to the public such information as methods acceptable to the NRC staff for implementing specific parts of the NRC's regulations, techniques used by the staff in its review of applications for permits and licenses, and data needed by the NRC staff in its review of applications for permits and licenses.

The NRC has issued for comment draft Regulatory Guide DG-1138, which is a preliminary draft of the staff's regulatory position on ANSI/ANS 58.21-2003, “External Events PRA Methodology Standard.” The staff's position is documented in Appendix C, “NRC Staff Regulatory Position on ANS External Hazards PRA Standard” to Regulatory Guide 1.200, “An Approach for Determining the Technical Adequacy of Probabilistic Risk Assessment Results for Risk-Informed Activities.” Regulatory Guide 1.200 was issued for trial use in February 2004 and did not contain Appendix C. The NRC staff is only soliciting comments on Appendix C to RG 1.200; Appendix C has not been issued for use. It is the staff's intent to issue a draft Revision 1 to RG 1.200 with Appendix C for public review and comment before issuing Revision 1 to RG 1.200 as final for use in mid-2005.

The NRC staff is soliciting comments on draft Appendix C. Comments may be accompanied by relevant information or supporting data. Please mention DG-1138 in the subject line of your comments. Comments on regulatory guides submitted in writing or in electronic form will be made available to the public in their entirety on the NRC rulemaking Web site. Personal information will not be removed from your comments. You may submit comments by any one of the following methods.

Mail comments to: Rules and Directives Branch, Office of Administration, U.S. Nuclear Regulatory Commission, Washington, DC 20555-0001.

E-mail comments to: NRCREP@nrc.gov. You may also submit comments via the NRC's rulemaking Web site at http://ruleforum.llnl.gov. Address questions about our rulemaking Web site to Carol Gallagher (301) 415-5905; e-mail CAG@nrc.gov.

Hand deliver comments to: Rules and Directives Branch, Office of Administration, 11555 Rockville Pike, Rockville, Maryland 20852, between 7:30 a.m. and 4:15 p.m. on Federal workdays.

Fax comments to: Rules and Directives Branch, Office of Administration, U.S. Nuclear Regulatory Commission at (301) 415-5144.

Requests for information about the draft Appendix C may be directed to Mr. A. Singh at (301) 415-0250; e-mail axs3@NRC.GOV.

Comments will be most helpful if received by October 29, 2004. Comments received after this date will be considered if it is practical to do so, but the NRC is able to ensure consideration only for comments received on or before this date. Although a time limit is given for comments on this draft Appendix C, comments and suggestions in connection with items for inclusion in guides currently being developed or improvements in all published guides are encouraged at any time.

The NRC intends to conduct a workshop on November 9, 2004, to be held in the auditorium at NRC headquarters, 11545 Rockville Pike, Rockville, Maryland, (the agenda will be announced in a future public notice), to discuss and explain the staff's position on the ANS standard, and the staff's response to the public comments received. In the workshop, the staff will discuss each public comment and the basis for the staff's position, and answer questions.

Electronic copies of the draft Appendix C and RG 1.200 are available on the NRC's Web site http://www.nrc.gov in the “Reference Library” under “Regulatory Guides”. Electronic copies are also available in NRC's Public Electronic Reading Room (ADAMS System) at the same Web site; draft Appendix C is under ADAMS Accession Number ML042430314. Regulatory guides are available for inspection at the NRC's Public Document Room, 11555 Rockville Pike, Rockville, MD; the PDR's mailing address is USNRC PDR, Washington, DC 20555; telephone (301) 415-4737 or (800) 397-4205; fax (301) 415-3548; e-mail PDR@NRC.GOV. Requests for single copies of draft or final guides (which may be reproduced) or for placement on an automatic distribution list for single copies of future draft guides in specific divisions should be made in writing to the U.S. Nuclear Regulatory Commission, Washington, DC 20555, Attention: Reproduction and Distribution Services Section; or by e-mail to DISTRIBUTION@NRC.GOV; or by fax to (301) 415-2289. Telephone requests cannot be accommodated. Regulatory guides are not copyrighted, and Commission approval is not required to reproduce them. (5 U.S.C. 552(a))

Dated at Rockville, Maryland, this 31st day of August 2004.
For the Nuclear Regulatory Commission.
Charles E. Ader,
Director, Division of Risk Analysis and Applications, Office of Nuclear Regulatory Research.

[FR Doc. 04-20389 Filed 9-8-04; 8:45 am]

BILLING CODE 7590-01-P